DEPARTMENT OF HEALTH AND HUMAN SERVICES

Office of the Secretary

[Document Identifier: OS-0990-0129; 60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular Clearance, Extension of a currently approved collection.

Title of Information Collection: HHS Acquisition Regulation HHSAR Part 370, Special Programs Affecting Acquisition.

Form/OMB No.: OS-0990-0129.

Use: This request for clearance covers the requirement of the Accessibility of Meetings, Conferences, and Seminars to Persons with Disabilities clause. It is the policy at the Health and Human Services, as a result of a Secretarial initiative, that all meetings, conferences, and seminar sites be accessible to individuals with disabilities.

Frequency: Recordkeeping, Reporting, on occasion.

Affected Public: Business or other for-profit, not-for-profit institutions, and Federal government.

Annual Number of Respondents: 1,242.

Total Annual Responses: 1,420.

Average Burden Per Response: 2 hours.

Total Annual Hours: 10,556.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be received with 60-days, and directed to the OS Paperwork Clearance Officer at the following address: Department of Health and Human Services, Office of the Secretary, Assistant Secretary for Budget, Technology, and Finance, Office of Information and Resource Management, Attention: Naomi Cook (0990-0129), Room 531-H, 200 Independence Avenue, SW., Washington, DC 20201.

Dated: November 9, 2005.
Robert E. Polson,
Office of the Secretary, Paperwork Reduction Act Reports Clearance Officer.

[FR Doc. E5-6532 Filed 11-25-05; 8:45 am]

BILLING CODE 4151-17-P